OFFICE OF PERSONNEL MANAGEMENT

President's Commission on White House Fellowships Advisory Committee: Closed Meeting

AGENCY: President's Commission on White House Fellowships, Office of Personnel Management.

ACTION: Notice of meeting.

SUMMARY: The President's Commission on White House Fellowships (PCWHF) was established by an Executive Order in 1964. The PCWHF is an advisory committee composed of Special Government Employees appointed by the President. This notice announces the meeting of the PCWHF on January 9, 2025. The meeting is closed to the public.

FOR FURTHER INFORMATION CONTACT: Rosemarie Vela, 712 Jackson Place NW, Washington, DC 20503, Phone: 202-395-4522.

SUPPLEMENTARY INFORMATION:

Name of Committee: President's Commission on White House Fellowships Mid-Year Meeting.

Date: January 9, 2025.

Time: 9 a.m.-4 p.m.

Place: Office of Personnel Management, 1900 E Street NW, Washington, DC 20415.

Agenda: The Commission holds a mid-year meeting to talk with current Fellows on how their placements are going and discuss preparation for future events.

Authority: Executive Orders 11183 and 14109.

Office of Personnel Management.
Kayyonne Marston,
Federal Register Liaison.

[FR Doc. 2024-28940 Filed 12-9-24; 8:45 am]

BILLING CODE 6325-69-P